DEPARTMENT OF TRANSPORTATION

Federal Motor Carrier Safety Administration

[Docket No. FMCSA-2018-0223]

Parts and Accessories Necessary for Safe Operation; Exemption Renewal for Groendyke Transport, Inc.

AGENCY: Federal Motor Carrier Safety Administration (FMCSA), Department of Transportation (DOT).

ACTION: Notice of provisional renewal of exemption; request for comments.

SUMMARY: FMCSA announces its decision to provisionally renew Groendyke Transport, Inc.'s (Groendyke) exemption to allow the use of an amber brake-activated pulsating lamp on the rear of its trailers in addition to the steady-burning brake lamps required by the Federal Motor Carrier Safety Regulations (FMCSR). The exemption is renewed for 6 months, unless revoked earlier.

DATES: This renewed exemption is effective April 26, 2024, through October 26, 2024, unless revoked earlier. Comments must be received on or before July 29, 2024.

ADDRESSES: You may submit comments identified by docket number FMCSA-2018-0223 using any of the following methods:

• Federal eRulemaking Portal: Go to https://www.regulations.gov/docket/FMCSA-2018-00223/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m. ET, Monday through Friday, except Federal holidays.

• Fax: (202) 493-2251.

FOR FURTHER INFORMATION CONTACT: Mr. David Sutula, Chief, Vehicle and Roadside Operations Division, Office of Carrier, Driver, and Vehicle Safety, FMCSA, 1200 New Jersey Avenue SE, Washington, DC 20590-0001; (202) 366-9209; MCPSV@dot.gov. If you have questions on viewing or submitting material to the docket, call Dockets Operations at (202) 366-9826.

SUPPLEMENTARY INFORMATION:

I. Public Participation and Request for Comments

A. Submitting Comments

If you submit a comment, please include the docket number for this notice (FMCSA-2018-0223), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/docket/FMCSA-2018-0223/document, click on this notice, click “Comment,” and type your comment into the text box on the following screen. Choose whether you are submitting your comment as an individual or on behalf of a third party and then submit.

If you submit your comments by mail or hand delivery, submit them in an unbound format, no larger than 8½ by 11 inches, suitable for copying and electronic filing.

If you submit comments by mail and would like to know that they reached the facility, please enclose a stamped, self-addressed postcard or envelope.

FMCSA will consider all comments and material received during the comment period. Comments received after the comment closing date will be filed in the public docket and will be considered to the extent practicable.

Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

B. Viewing Comments and Documents

To view any documents mentioned as being available in the docket, go to https://www.regulations.gov/docket/FMCSA-2018-0223/document and choose the document to review. To view comments, click this notice, then click “Browse Comments.” If you do not have access to the internet, you may view the docket online by visiting Dockets Operations on the ground floor of the DOT West Building, 1200 New Jersey Avenue SE, Washington, DC 20590-0001, between 9 a.m. and 5 p.m. ET, Monday through Friday, except Federal holidays. To be sure someone is there to help you, please call (202) 366-9317 or (202) 366-9826 before visiting Dockets Operations.

C. Privacy

In accordance with 49 U.S.C. 31315(b)(6), DOT solicits comments from the public to better inform its regulatory process. DOT posts these comments, including any personal information the commenter provides, to www.regulations.gov, as described in the system of records notice DOT/ALL 14 (Federal Docket Management System (FDMS)), which can be reviewed under the “Department Wide System of Records Notices” at https://www.transportation.gov/individuals/privacy/privacy-act-system-records-notices. The comments are posted without edit and are searchable by the name of the submitter.

II. Legal Basis

FMCSA has authority under 49 U.S.C. 31136(e) and 31315(b)(2) and 49 CFR 381.300(b) to renew an exemption from the FMCSRs for subsequent periods of up to 5 years if it finds that such exemption would likely maintain a level of safety that is equivalent to, or greater than, the level that would be achieved by the current regulation (49 CFR 381.305(a)).

III. Background

Current Regulatory Requirements

Section 393.25(e) of the FMCSRs requires all exterior lamps (both required lamps and any additional lamps) to be steady burning except turn signal lamps, hazard warning signal lamps, school bus warning lamps, amber warning lamps or flashing warning lamps on tow trucks and commercial motor vehicles (CMV) transporting oversized loads, and warning lamps on emergency and service vehicles authorized by State or local authorities.

Original Exemption

In its original exemption application, Groendyke evaluated methods to reduce rear-end collisions involving its trailers. Groendyke drivers transporting hazardous materials are required to slow down or stop at railroad crossings. However, following drivers are not always prepared for these stops, resulting in rear-end crashes. Groendyke's inability to control other drivers' actions meant that the problem could not be solved through its internal training procedures. Consequently, it prioritized enhancing visibility by improving its trailers' braking systems to alert other drivers more effectively.

Groendyke is a carrier of flammable fuel and liquid hazardous materials that operates a fleet of approximately 1,440 trailers and employs over 1,200 individuals, including around 900 drivers. In its efforts to enhance safety, Groendyke proposed installing an amber brake-activated pulsating lamp at the rear of its trailers, signaling to following drivers that the vehicle is slowing down or coming to a stop. Groendyke specified that the brake-activated pulsating lamp would be positioned in the upper center portion of the trailer.

In support of its application, Groendyke contended that the addition of the brake-activated pulsating lamp would improve safety, and cited (1) research suggesting that pulsating brake lamps in addition to steady-burning red brake lamps improve visibility and prevent accidents, (2) its own experience demonstrating that pulsating brake lamps in addition to steady-burning red brake lamps decreased the frequency of rear-end accidents involving its fleet, and (3) similar exemptions granted for other classes of vehicles.

Groendyke referenced research conducted by the National Highway Traffic Safety Administration (NHTSA) concerning rear-end collisions, distracted driving, and braking signals. According to Groendyke, NHTSA research reveals that enhancements to braking systems can significantly improve their effectiveness in capturing the attention of following drivers, thereby reducing rear-end collisions. Specifically, Groendyke states the addition of a pulsating brake lamp on a leading vehicle has been shown to have a measurable impact on the behavior of following drivers, leading to faster and more efficient responses and ultimately preventing or mitigating rear-end collisions.

Starting in the second quarter of 2015, Groendyke initiated the use of amber brake-activated pulsating lamps on a portion of its fleet, without prior authorization from the FMCSA, as a part of the “Groendyke Brake Warning Device Campaign.” Groendyke initiated this effort to compare the frequency of rear-end collisions between trailers equipped with centrally mounted auxiliary amber brake-activated pulsating lamps (in addition to the required red steady-burning brake lamps), and those equipped exclusively with the required red steady-burning lamps. By July 31, 2017, 632 out of 1,440 trailers had been outfitted with the auxiliary amber brake-activated pulsating lamps.

Data collected by Groendyke between January 2015 and July 2017 as part of the “Groendyke Brake Warning Device Campaign” demonstrated that trailers equipped with both the auxiliary amber brake-activated pulsating lamp and red steady-burning brake lamps were involved in 33.7 percent fewer rear-end collisions compared to those equipped only with red steady-burning brake lamps. Groendyke also analyzed whether the presence of the auxiliary amber brake-activated pulsating lamp improved outcomes during slowing or stopping at railroad crossings. The analysis revealed that trailers equipped with pulsating lamps were not involved in any rear-end collisions at railroad crossings during the same period. Groendyke did not present any information on crash rates at railroad crossings for trailers not equipped with the pulsating lamps for FMCSA to make a comparison of effectiveness at rail crossings.

Groendyke concluded that the results of its “Groendyke Brake Warning Device Campaign” show a significant reduction in the frequency of rear-end collisions when trailers are equipped with auxiliary amber brake activated pulsating lamps in addition to the steady-burning red brake lamps required by the FMCSRs. These auxiliary pulsating lamps, according to Groendyke, effectively draw other drivers' attention to the actions of the vehicle in front, enhancing safety and, in the process, productivity.

Exemptions for Other Classes of Vehicles

Groendyke noted in its application that the current regulations (49 CFR 393.25(e)) exempt tow trucks, CMVs transporting over-sized loads, and emergency vehicles from the requirement that all exterior lamps be steady-burning. In the original exemption application, Groendyke argued that granting a similar exemption for carriers of hazardous loads would align with the intent of that regulation. Groendyke emphasized that this additional brake lamp would not compromise safety and that adherence to the exemption's terms and conditions would achieve a level of safety equivalent to or greater than the level of safety achieved without the exemption.

On April 26, 2019, following notice and consideration of the comments received, FMCSA granted Groendyke a 5-year exemption after determining that the use of an amber brake-activated pulsating lamp positioned in the upper center portion of the trailer, in addition to the steady-burning brake lamps required by the FMCSRs, would likely maintain a level of safety that is equivalent to or greater than the level of safety achieved without the exemption (84 FR 17910). In its decision, FMCSA noted that rear-end crashes, which account for approximately 30% of all crashes, are a significant concern, especially when large trucks are involved. These types of crashes often result from a failure to respond (or delays in responding) to a stopped or decelerating lead vehicle. Data between 2010 and 2016 show that large trucks are consistently three times more likely than other vehicles to be struck in the rear in two-vehicle fatal crashes.

Research conducted by both FMCSA and NHTSA explored alternative rear signaling systems to address this issue. Specifically, FMCSA conducted research and development on Enhanced Rear Signaling (ERS) systems, which showed promise. However, the FMCSA ultimately decided not to pursue formal field operational testing of the prototype system due to concerns about implementation costs and fleets' willingness to invest in the technology. Nonetheless, the preliminary research showed that the ERS system performed well at detecting and signaling rear-end crash threats and drawing the gaze of following-vehicle drivers to the forward roadway which if implemented, could potentially reduce the number and frequency of rear-end crashes into the rear of CMVs.

Separately, NHTSA has performed a series of research studies intended to develop and evaluate rear signaling applications designed to reduce the frequency and severity of rear-end crashes via enhancements to rear-brake lighting by redirecting drivers' visual attention to the forward roadway (for cases involving a distracted driver), and/or increasing the saliency or meaningfulness of the brake signal (for attentive drivers). The research demonstrated that flashing all lights simultaneously or alternately flashing is a promising signal for use in enhanced brake light applications, even at levels of brightness within the current regulated limits. Specifically, the study concluded that substantial performance gains may be realized by increasing brake lamp brightness levels under flashing configurations; however, increases beyond a certain brightness threshold will not return substantive performance gains.

In addition, NHTSA has conducted research on the effectiveness of rear turn signal color on the likelihood of being involved in a rear-end crash. FMVSS No. 108 allows rear turn signals to be either red or amber in color. The study concluded that amber signals show a 5.3 percent effectiveness in reducing involvement in two-vehicle crashes where a lead vehicle is rear-struck in the act of turning left, turning right, merging into traffic, changing lanes, or entering/leaving a parking space. The advantage of amber rear turn signals was shown to be statistically significant.

Because of the risks posed by rear-end crashes, the potential benefits of ERS suggested by existing studies, and the value of real-world data, FMCSA concluded that Groendyke's tests conducted between January 1, 2015, and July 31, 2017, were both persuasive and compelling. FMCSA noted that this real-world experience, along with the FMCSA and NHTSA research programs that demonstrated the potential ability of ERS to reduce the frequency and severity of rear-end crashes, was sufficient for FMCSA to conclude that the implementation of a supplemental amber brake-activated pulsating lamp on the rear of Groendyke's trailers was likely to provide a level of safety equivalent to, or greater than, the level of safety achieved without the exemption. During the temporary exemption period, Groendyke was allowed to install an amber brake-activated pulsating lamp positioned in the upper center of the rear of its trailers in addition to the steady-burning brake lamps required by the FMCSRs.

Finally, FMCSA imposed the following terms and conditions to ensure the safety of the motoring public. The exemption would be rescinded if: (1) Groendyke failed to comply with the terms and conditions of the exemption; (2) the exemption resulted in a lower level of safety than was maintained before it was granted; or (3) continuation of the exemption would not be consistent with the goals and objectives of 49 U.S.C. 31136(e) and 31315(b).

Application for Renewal of Exemption

In its renewal application, Groendyke reaffirmed its previous arguments in support of the original exemption request and requested an additional 5-year exemption. Building upon agency reports, studies, and internal data, Groendyke reiterated the effectiveness of enhanced brake lighting in reducing rear-end accidents.

Following its previous data collections, Groendyke continued to gather and analyze data from 2018 to 2023. Groendyke noted that since the exemption was granted, the installation of pulsating brake lamps has gradually expanded across its fleet. For instance, in 2018, Groendyke reported that 38% of its trailers had been fitted with additional rear brake-activated pulsating lamps. By 2023, this number had increased significantly, with Groendyke reporting that 93% of its trailers were equipped with such lamps. Following this widespread implementation, Groendyke reported a notable reduction in rear-end accidents since 2018. Based on these findings, Groendyke reached the following conclusions: (1) the “Groendyke Brake Warning Device Campaign” results indicated that the pulsating lamps in addition to steady-burning brake lamps did not lead to confusion or distraction among following drivers; and (2) the data shows a direct correlation between the utilization of auxiliary brake-activated pulsating lamps and a decrease in rear-end accidents, indicating the efficacy of auxiliary pulsating brake lamps in enhancing visibility and reducing accidents. Therefore, Groendyke requests renewal of the initial exemption, highlighting the lamps' role in enhancing safety both for the public and its drivers while reducing overall accident costs. A copy of Groendyke's request to renew the exemption is available in the docket.

IV. Equivalent Level of Safety Analysis

FMCSA is not aware of any evidence showing that the operation of Groendyke's brake-activated pulsating lamps in accordance with the conditions of the original exemption has resulted in any degradation in safety. In addition, the data provided by Groendyke indicates a notable reduction in rear-ended crashes concurrent with its operation of cargo tank trucks equipped with an auxiliary amber brake-activated pulsating lamp on the rear of its trailers in addition to the steady-burning brake lamps. This supports Groendyke's argument that the use of pulsating auxiliary lamps has not resulted in a degradation of safety, and Groendyke's overall operations demonstrate achievement of a level of safety equivalent to or greater than operations conducted without the exemption. Therefore, for the reasons discussed above and in the prior notice granting the original exemption request, FMCSA concludes that provisionally renewing the exemption granted on April 26, 2019, for a subsequent 6 months, on the terms and conditions set forth in this exemption renewal decision, would likely achieve a level of safety that is equivalent to, or greater than, the level of safety achieved without the exemption.

V. Exemption Decision

A. Provisional Granting of Exemption Renewal

FMCSA provisionally renews the exemption for a subsequent period of 6 months, instead of the 5 years requested by Groendyke, subject to the terms and conditions of this decision and the absence of adverse evidence sufficiently serious to cause the Agency to revoke the exemption. If evidence of insufficient safety is not provided, FMCSA anticipates granting a full 5-year exemption when the provisional exemption expires. The exemption from the requirements of 49 CFR 393.25(e) is effective April 26, 2024, through October 26, 2024, 11:59 p.m. local time, unless revoked.

B. Applicability of Exemption

During the temporary exemption period, Groendyke will be allowed to install or continue to use an amber brake-activated pulsating lamp positioned in the upper center of the rear of its trailers in addition to the steady-burning brake lamps required by the FMCSRs.

C. Terms and Conditions

Below are the conditions applicable to the provisionally renewed exemption. These conditions establish requirements for reporting, data submission, and compliance monitoring to ensure the safe operation of CMVs equipped with Groendyke's brake activated pulsating lamps. Each condition serves to maintain safety standards while allowing for the continued use of these lamps under specified terms and conditions. Groendyke must follow the terms and conditions listed below:

1. Limitation of Exemption:

• This exemption applies exclusively to CMVs operated by Groendyke Transport, Inc., and does not extend to any other motor carrier.

2. Recurring Data Reporting Requirements:

• Groendyke must provide recurring yearly data submissions to include information on rear-impact crashes and incidents involving a CMV equipped with Groendyke's amber brake-activated pulsating lamps. The first submission is due March 31, 2025, and, if the exemption is extended, subsequent submissions are due every 12-months thereafter until the exemption expires or is revoked.

• The yearly data submissions must be sent via email to FMCSA at MCPSD@dot.gov.

• If Groendyke lacks certain categories of information, alternative information may be discussed with FMCSA and submitted if approved.

3. Data Reporting Requirements for Rear-impact Crashes and Incidents:

• At the end of each 12-month period, Groendyke must submit a report detailing crash rates, vehicle miles traveled, number and type of CMVs operating under the exemption, information including dates of the crash or incident, time, location, and a brief description of the event.

• Groendyke must provide any available information indicating malfunction of or confusion caused by the use of Groendyke's amber brake-activated pulsating lamps.

4. Meetings:

• Groendyke must meet with FMCSA upon request to answer questions regarding data and information provided under the exemption.

D. Preemption

In accordance with 49 U.S.C. 31315(d), as implemented by 49 CFR 381.600, during the period this exemption is in effect, no State shall enforce any law or regulation that conflicts with or is inconsistent with this exemption with respect to a person operating under the exemption. States may, but are not required to, adopt the same exemption with respect to operations in intrastate commerce.

E. Revocation

The exemption will be valid for 6 months as provided in section V.A. above, unless revoked earlier by FMCSA. FMCSA does not believe that drivers, and CMVs covered by the exemption will experience any deterioration of their safety record. However, should this occur, FMCSA will take all steps necessary to protect the public interest, including revocation of the exemption without prior notice. The exemption will be immediately revoked if: (1) Groendyke's drivers, and/or CMVs fail to comply with the terms and conditions of the exemption; (2) the exemption has resulted in a lower level of safety than was maintained before it was granted; or (3) continuation of the exemption would not be consistent with the goals and objectives of 49 U.S.C. 31136 or chapter 313.

Interested parties possessing information that would demonstrate that Groendyke's use of an amber brake-activated pulsating lamp positioned in the upper center of the rear of the trailer in addition to the steady-burning brake lamps required by the FMCSRs is not achieving the requisite statutory level of safety should immediately notify FMCSA by email at MCPSV@DOT.GOV. The Agency will evaluate any such information and, if safety is being compromised or if the continuation of the exemption is not consistent with the goals and objectives of 49 U.S.C. 31136 or chapter 313, will take immediate steps to revoke the exemption.

VI. Request for Comments

In accordance with 49 U.S.C. 31315(b), FMCSA requests public comment from all interested persons on Groendyke's application for renewal of its exemption from § 393.25(e). All comments received before the close of business on the comment closing date indicated at the beginning of this notice will be considered and will be available for examination in the docket at the location listed under the Addresses section of this notice. Comments received after the comment closing date will be filed in the public docket and will be considered to the extent practicable. In addition to late comments, FMCSA will also continue to file, in the public docket, relevant information that becomes available after the comment closing date. Interested persons should continue to examine the public docket for new material.

Vincent G. White,
Acting Administrator.

[FR Doc. 2024-14335 Filed 6-27-24; 8:45 am]

BILLING CODE 4910-EX-P